GENERAL SERVICES ADMINISTRATION

[Notice-MA-2020-14; Docket No. 2020-0002; Sequence No. 40]

Mail Management—Deployment of the Simplified Mail Accountability and Reporting Tool (SMART) and Temporary Waiver of Federal Management Regulation (FMR) Sections 102-192.85-105 Reporting Requirements

AGENCY: Office of Government-wide Policy, General Services Administration (GSA).

ACTION: Availability of GSA Bulletin FMR G-07.

SUMMARY: GSA has issued FMR Bulletin G-07, which announces GSA's decision to deploy the SMART and resume Federal Agency mail program data collections when the SMART is fully deployed. Additionally, FMR Bulletin G-07 temporarily waives the annual mail management reporting requirement for large Federal agencies.

DATES: Applicability Date: This notice is effective upon signature and retroactively applies to relevant reporting requirements for FY 2017, 2018, 2019, and 2020.

FOR FURTHER INFORMATION CONTACT: For clarification of content, contact Mr. Michael DeMale, Office of Asset and Transportation Management, GSA, at 202-805-8167, or email federal.mail@gsa.gov. Please cite Notice of FMR Bulletin G-07.

SUPPLEMENTARY INFORMATION: Background: Federal agencies must comply with FMR part 102-192, authorized by 44 U.S.C. 2901-2906, when developing and administering Federal agency mail programs. GSA is announcing the deployment of the SMART for collecting large Federal agency mail program data as required by FMR 102—sections 192.85-105. This FMR Bulletin is available at https://www.gsa.gov/policy-regulations/regulations/federal-management-regulation/federal-management-regulation-fmr-related-files#MailManagement. Annual large agency mail management reporting requirements are temporarily waived until the SMART is deployed.

Krystal J. Brumfield,
Associate Administrator, Office of Government-wide Policy, General Services Administration.

[FR Doc. 2021-09140 Filed 4-30-21; 8:45 am]

BILLING CODE 6820-14-P